FEDERAL COMMUNICATIONS COMMISSION

47 CFR Part 73

[DA 02-1156; MM Docket No. 00-69; RM-9850, 9945 & 9946]

Radio Broadcasting Services; Cheboygan, Rogers City, Bear Lake, Bellaire, Rapid River, Manistique, Ludington, Walhalla & Onaway, MI

AGENCY: Federal Communications Commission.

ACTION: Final rule.

SUMMARY: The Notice in this proceeding requested the allotment of Channel 260C2 at Cheboygan, MI and substitution of Channel 292C2 for Channel 260C2 at Rogers City, MI, in response to a petition filed by Escanaba License Corp. See 65 FR 30558, May 12, 2000. The counterproposal filed jointly by D&B Broadcasting and Fort Bend Broadcasting Company requesting changes at Rogers City, Bear Lake, Bellaire, Rapid River, Manistique, Ludington and Walhalla, MI has been denied. The counterproposal filed by Northern Radio Network Corporation requesting the allotment of Channel 292C2 at Onaway, MI at coordinates 45-26-28 and 84-00-37 and the allotment of Channel 249C3 at Cheboygan, MI at coordinates 45-34-45 and 84-15-05 has been granted. Canadian concurrence has been received for the allotments at Onaway and Cheboygan. The issue of opening these allotments for auction will be addressed by the Commission in a subsequent order. With this action, this proceeding is terminated.

DATES: Effective July 1, 2002.

FOR FURTHER INFORMATION CONTACT: Kathleen Scheuerle, Media Bureau, (202) 418-2180.

SUPPLEMENTARY INFORMATION: This is a summary of the Commission's Report and Order, MM Docket No. 00-69, adopted May 1, 2002, and released May 17, 2002. The full text of this Commission decision is available for inspection and copying during regular business hours in the FCC Reference Information Center, Portals II, 445 12th Street, SW., Room CY-A257, Washington, DC 20554. The complete text of this decision may also be purchased from the Commission's duplicating contractor, Qualex International, Portals II, 445 12th Street, SW., Room CY-B402, Washington, DC. 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Michigan, is amended by adding Channel 249C3 at Cheboygan and by adding Onaway, Channel 292C2.

Federal Communications Commission.
John A. Karousos,
Assistant Chief, Audio Division, Office of Broadcast License Policy, Media Bureau.

[FR Doc. 02-13823 Filed 5-31-02; 8:45 am]

BILLING CODE 6712-01-P